DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Long Island Railroad Company

(Waiver Petition Docket Number FRA-2008-0045)

The Long Island Railroad Company (LIRR) seeks a permanent waiver of compliance from a certain provision of the Use of Locomotive Horns at Highway-Rail Grade Crossings, 49 CFR Part 222. LIRR is seeking a waiver to permit trains to sound one short blast of the train horn when departing from 24 specific train stations, which are located no more than 50 feet from a public highway-rail grade crossing. Specifically, LIRR is seeking a waiver from the provisions of 49 CFR Part 222.21. The waiver petition is supported by the ten public authorities that are responsible for the roadways near the 24 train stations listed in the petition.

LIRR states that the modification to the final rule 49 CFR 222.21 on August 17, 2006, by the addition of 49 CFR 222.21(d), which provides that under certain conditions trains stopped in the vicinity of public highway-rail grade crossings would be able to sound their horn less than 15 seconds, still requires the railroad to blow its horn in required sequence (two longs, one short and two longs) until the lead locomotive blocks the crossing from all approaches.

LIRR states that its previous practice at these 24 train stations were to sound a short blast as the train departed the station and approached the nearby highway-rail grade crossing. LIRR states that a review of internal and FRA records for the past 10 years show no incidents occurring when trains departed from any of these stations. The approximate distance between the edge of the road to the station platform varies between 8 to 50 feet. All of the crossings are equipped with gates, flashing lights and bells. LIRR requests to return to its prior policy of sounding one short blast of its train horn when departing from the 24 train stations. It believes, based upon the lack of any incidents when trains departed from the stations under its previous practice, that the safety of those traversing the crossings, as well as LIRR's customers and employees, will not be adversely affected. It has received numerous complaints about the additional train horn noise since 49 CFR Part 222 went into effect.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0045) and may be submitted by any of the following methods:

1. Web site: http://www.regulations.gov. Follow the online instructions for submitting comments.

2. Fax: 202-493-2251.

3. Mail: Docket Operations Facility, U.S. Department of Transportation, 1200 New Jersey Avenue, SE., W12-140, Washington, DC 20590.

4. Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 16, 2008.
Grady C. Cothen, Jr.,
Deputy Associate Administrator for Safety Standards and Program Development.

[FR Doc. E8-11457 Filed 5-21-08; 8:45 am]

BILLING CODE 4910-06-P